DEPARTMENT OF ENERGY

Office of Fossil Energy

[FE Docket Nos. 02-55-NG, 02-54-LNG, 01-44-LNG, 01-83-NG, 02-56-NG, and 02-58-NG]

Multifuels, L.P., Applied LNG Technologies USA, L.L.C., Itochu Petroleum Japan Ltd., (Formerly ITOCHU International Inc.), Puget Sound Energy, Inc., Regent Resources Ltd., Concord Energy LLC; Orders Granting and Amending Authority To Import and Export Natural Gas, Including Liquefied Natural Gas

AGENCY: Office of Fossil Energy, DOE.

ACTION: Notice of orders.

SUMMARY: The Office of Fossil Energy (FE) of the Department of Energy gives notice that during August 2002, it issued Orders granting and amending authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on September 10, 2002.
Clifford P. Tomaszewski,
Manager, Natural Gas Regulation, Office of Natural Gas & Petroleum Import & Export Activities, Office of Fossil Energy.

Appendix—Orders Granting and Amending Import/Export Authorizations
Order No. | Date issued | Importer/exporter FE docket no. | Import volume | Export volume | Comments
1802 | 8-9-02 | Multifuels, L.P., 02-55-NG | 5 Bcf |  | Import and export natural gas from and to Canada, beginning on September 1, 2002, and extending through August 31, 2004.
1803 | 8-13-02 | Applied LNG Technologies USA, L.L.C., 02-54-LNG |  | 5.44 Bcf | Export LNG to Mexico, beginning on August 19, 2002, and extending through August 18, 2004.
1705-A | 8-19-02 | ITOCHU Petroleum Japan Ltd. (Formerly ITOCHU International Inc.), 01-44-LNG |  |  | Name change on blanket import authority
1746-A | 8-21-02 | Puget Sound Energy, Inc., 01-83-NG | 75 Bcf |  | Amendment to blanket import authority to Canada, to include exports to Canada, and to increase the volumes of natural gas from 50 Bcf (imports only) to a combined total of 75 Bcf.
1804 | 8-30-02 | Regent Resources Ltd., 02-56-NG | 15 Bcf |  | Import natural gas from Canada, beginning on October 1, 2002, and extending through September 30, 2004.
1805 | 8-30-02 | Concord Energy LLC, 02-58-NG | 100 Bcf |  | Import and export a combined total of natural gas from and to Canada, beginning on September 1, 2002, and extending through August 31, 2004.

[FR Doc. 02-23795 Filed 9-18-02; 8:45 am]

BILLING CODE 6450-01-P